DEPARTMENT OF HOMELAND SECURITY

Federal Emergency Management Agency

[Docket ID FEMA-2016-0002; Internal Agency Docket No. FEMA-B-1607]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: March 4, 2016.
Roy E. Wright,
Deputy Associate Administrator for Insurance and Mitigation, Department of Homeland Security, Federal Emergency Management Agency.

State and county | Location and case No. | Chief executive officer of community | Community map repository | Online location of letter of map revision | Effective date of modification | Community No.
Colorado:
Arapahoe | Unincorporated areas of Arapahoe County (15-08-1087P) | The Honorable Nancy N. Sharpe, Chair, Arapahoe County Board of Commissioners 5334 South Prince Street, Littleton, CO 80120 | Arapahoe County Public Works Department, 6924 South Lima Street, Littleton, CO 80122 | http://www.msc.fema.gov/lomc. | May 26, 2016 | 080011
Archuleta | Unincorporated areas of Archuleta County, (14-08-0969P) | The Honorable Michael Whiting, Chairman, Archuleta County Board of Commissioners, P.O. Box 1507, Pagosa Springs, CO 81147 | Archuleta County Development Services Department, P.O. Box 1507, Pagosa Springs, CO 81147 | http://www.msc.fema.gov/lomc. | May 20, 2016 | 080273
Denver | City and County of Denver, (15-08-1275P) | The Honorable Michael B. Hancock, Mayor, City and County of Denver, 1437 Bannock Street, Suite 350, Denver, CO 80202 | Department of Public Works, 201 West Colfax Avenue, Denver, CO 80202 | http://www.msc.fema.gov/lomc. | May 19, 2016 | 080046
Routt | City of Steamboat Springs, (15-08-0994P) | The Honorable Walter Magill, President, City of Steamboat Springs Council, 1769 Brome Drive, Steamboat Springs, CO 80487 | City Hall, 124 10th Street, Steamboat Springs, CO 80477 | http://www.msc.fema.gov/lomc. | May 31, 2016 | 080159
Florida:
Broward | City of Pompano Beach, (15-04-6416P) | The Honorable Lamar Fisher, Mayor, City of Pompano Beach, 100 West Atlantic Boulevard, Pompano Beach, FL 33060. | Building Inspections Department, 100 West Atlantic Boulevard, Pompano Beach, FL 33060 | http://www.msc.fema.gov/lomc | May 27, 2016 | 120055
Hardee | City of Wauchula, (14-04-9451P) | The Honorable Richard Keith Nadaskay, Jr., Mayor, City of Wauchula, 126 South 7th Avenue, Wauchula, FL 33873 | Administration Building, 126 South 7th Avenue, Wauchula, FL 33873 | http://www.msc.fema.gov/lomc. | May 27, 2016 | 120105
Hardee | Unincorporated areas of Hardee County, (14-04-9451P) | The Honorable Rick Knight, Chairman, Hardee County Board of Commissioners, 412 West Orange Street, Room 103, Wauchula, FL 33873 | Hardee County, Planning and Development Department, 110 South 9th Avenue, Wauchula, FL 33873 | http://www.msc.fema.gov/lomc. | May 27, 2016 | 120103
Levy | City of Cedar Key, (15-04-4427P) | The Honorable Heath Davis, Mayor, City of Cedar Key, 490 2nd Street, Cedar Key, FL 32625 | Building Department, 490 2nd Street, Cedar Key, FL 32625 | http://www.msc.fema.gov/lomc. | May 27, 2016 | 120373
Miami-Dade | City of Sunny Isles Beach, (15-04-4049P) | The Honorable George “Bud” Scholl, Mayor, City of Sunny Isles Beach, 18070 Collins Avenue, Sunny Isles Beach, FL 33160 | Building Department, 18070 Collins Avenue, Sunny Isles Beach, FL 33160 | http://www.msc.fema.gov/lomc. | Jun. 2, 2016 | 120688
Orange | City of Orlando, (16-04-0720P) | The Honorable Buddy W. Dyer, Mayor, City of Orlando, P.O. Box 4990, Orlando, FL 32802 | Public Works Department, 400 South Orange Avenue, 8th Floor, Orlando, FL 32801 | http://www.msc.fema.gov/lomc. | May 31, 2016 | 120186
Pinellas | City of St. Petersburg, (16-04-0334P) | The Honorable Rick Kriseman, Mayor, City of St. Petersburg, 175 5th Street North, St. Petersburg, FL 33701 | Municipal Services Center, Permit Division, 1 4th Street North, St. Petersburg, FL 33701 | http://www.msc.fema.gov/lomc. | May 25, 2016 | 125148
Sumter | City of Fruitland Park, (15-04-3835P) | The Honorable Chris Bell, Mayor, City of Fruitland Park, 506 West Berckman Street, Fruitland Park, FL 34731 | Building Department, 506 West Berckman Street, Fruitland Park, FL 34731 | http://www.msc.fema.gov/lomc. | May 20, 2016 | 120387
Sumter | Unincorporated areas of Sumter County, (15-04-3835P) | The Honorable Garry Breeden, Chairman, Sumter County Board of Commissioners, 7375 Powell Road, Wildwood, FL 34785 | Sumter County Development Department, 7375 Powell Road, Wildwood, FL 34785 | http://www.msc.fema.gov/lomc. | May 20, 2016 | 120296
Georgia:
Coweta | City of Newnan, (16-04-0314P) | The Honorable Keith Brady, Mayor, City of Newnan, 25 Lagrange Street, Newnan, GA 30263 | Public Works Department, 25 Lagrange Street, Newnan, GA 30263 | http://www.msc.fema.gov/lomc. | Jun. 3, 2016 | 130062
Lee | City of Smithville, (15-04-3746P) | The Honorable Jack Smith, Mayor, City of Smithville, P.O. Box 180, Smithville, GA 31787 | City Hall, 116 South Main Street, Smithville, GA 31787 | http://www.msc.fema.gov/lomc. | May 19, 2016 | 130349
Lee | Unincorporated areas of Lee County, (15-04-3746P) | The Honorable Rick Muggridge, Chairman, Lee County Board of Commissioners, 110 Starksville Avenue North, Leesburg, GA 31763 | Lee County Administration Building, 110 Starksville Avenue North, Leesburg, GA 31763 | http://www.msc.fema.gov/lomc. | May 19, 2016 | 130122
Kentucky
Barren | City of Glasgow, (15-04-9280P) | The Honorable Dick Doty, Mayor, City of Glasgow, 126 East Public Square, Glasgow, KY 42141 | Public Works Department, 310 West Front Street, Glasgow, KY 42141 | http://www.msc.fema.gov/lomc. | Jun. 3, 2016 | 210007
Barren | Unincorporated areas of Barren County, (15-04-9280P) | The Honorable Michael Hale, Barren County Judge Executive, 117 North Public Square, Suite 3A, Glasgow, KY 42141 | Barren County Government Center, 117 North Public Square, Glasgow, KY 42141 | http://www.msc.fema.gov/lomc. | Jun. 3, 2016 | 210334
Boyd | Unincorporated areas of Boyd County, (15-04-9647P) | The Honorable Steve Towler, Boyd County Judge, P.O. Box 423, Catlettsburg, KY 41129 | Boyd County Floodplain and Code Enforcement Department, 2800 Louisa Street, Catlettsburg, KY 41129 | http://www.msc.fema.gov/lomc. | May 27, 2016 | 210016
Montana:
Lewis and Clark | Unincorporated areas of Lewis and Clark County, (15-08-1239P) | The Honorable Andy Hunthausen, Chairman, Lewis and Clark County Board of, Commissioners, 316 North Park Avenue, Helena, MT 59623 | Clark County Law Enforcement Center, 221 Breckenridge Avenue, Helena, MT 59601 | http://www.msc.fema.gov/lomc. | May 18, 2016 | 300038
New Mexico:
Bernalillo | City of Albuquerque, (15-06-0643P) | The Honorable Richard J. Berry, Mayor, City of Albuquerque, P.O. Box 1293, Albuquerque, NM 87103 | Planning Department, 600 2nd Street Northwest Albuquerque, NM 87102 | http://www.msc.fema.gov/lomc. | May 31, 2016 | 350002F
North Carolina:
Orange | Town of Chapel Hill, (15-04-3876P) | The Honorable Mark Kleinschmidt, Mayor, Town of Chapel Hill, 405 Martin Luther King Jr. Boulevard, Chapel Hill, NC 27514 | Public Works Department, Stormwater Division, 405 Martin Luther King Jr. Boulevard, Chapel Hill, NC 27514 | http://www.msc.fema.gov/lomc. | Apr. 4, 2016 | 370180
Pennsylvania:
Dauphin | Township of Lower Paxton, (14-03-3302P) | The Honorable William B. Hawk, Chairman, Township of Lower Paxton Board of Supervisors, 425 Prince Street, Harrisburg, PA 17109 | Township Government Office, 425 Prince Street, Harrisburg, PA 17109 | http://www.msc.fema.gov/lomc. | May 20, 2016 | 420384
Tennessee:
Williamson | City of Brentwood, (15-04-7313P) | The Honorable Regina Smithson, Mayor, City of Brentwood, 5211 Maryland Way, Brentwood, TN 37027 | City Hall, 5211 Maryland Way, Brentwood, TN 37027 | http://www.msc.fema.gov/lomc. | May 19, 2016 | 470205
Texas:
Bexar | City of San Antonio, (15-06-2857P) | The Honorable Ivy R. Taylor, Mayor, City of San Antonio, P.O. Box 839966, San Antonio, TX 78283 | Transportation and Capital Improvements Department, Storm Water Division, 1901 South Alamo Street, 2nd Floor, San Antonio, TX 78205 | http://www.msc.fema.gov/lomc. | May 18, 2016 | 480045
Collin | City of Murphy, (15-06-3827P) | The Honorable Eric Barna, Mayor, City of Murphy, 206 North Murphy Road, Murphy, TX 75094 | City Hall, 206 North Murphy Road, Murphy, TX 75094 | http://www.msc.fema.gov/lomc. | May 16, 2016 | 480137
Collin | City of Wylie, (15-06-3379P) | The Honorable Eric Hogue, Mayor, City of Wylie, 300 Country Club Road, Building 100, Wylie, TX 75098 | City Hall, 300 Country Club Road, Wylie, TX 75098 | http://www.msc.fema.gov/lomc. | May 26, 2016 | 480759
Dallas | City of Dallas, (15-06-3297P) | The Honorable Mike Rawlings, Mayor, City of Dallas, 1500 Marilla Street, Room 5EN, Dallas, TX 75201 | Trinity Watershed Management Department, 320 East Jefferson Boulevard, Room 307, Dallas, TX 75203 | http://www.msc.fema.gov/lomc | May 25, 2016 | 480171
Dallas | City of DeSoto, (15-06-2944P) | The Honorable Carl Sherman, Mayor, City of DeSoto, 211 East Pleasant Run Road, DeSoto, TX 75115 | Engineering Department, 211 East Pleasant Run Road, DeSoto, TX 75115 | http://www.msc.fema.gov/lomc. | May 12, 2016 | 480172
Denton | City of Frisco, (15-06-4148P) | The Honorable Maher Maso, Mayor, City of Frisco, 6101 Frisco Square Boulevard, Frisco, TX 75034 | Engineering Services Department, 6101 Frisco Square Boulevard, Frisco, TX 75034 | http://www.msc.fema.gov/lomc. | May 31, 2016 | 480134
Denton | Town of Little Elm, (15-06-4148P) | The Honorable David Hillock, Mayor, Town of Little Elm, 100 West Eldorado Parkway, Little Elm, TX 75068 | Development Services Department, 100 West Eldorado Parkway, Little Elm, TX 75068 | http://www.msc.fema.gov/lomc. | May 31, 2016 | 481152
Harris | City of Houston, (15-06-0693P) | The Honorable Sylvester Turner, Mayor, City of Houston, P.O. Box 1562, Houston, TX 77251 | Public Works and Engineering Department, 1002 Washington AvenueHouston, TX 77002 | http://www.msc.fema.gov/lomc. | May 18, 2016 | 480296
Harris | Unincorporated areas of Harris County, (15-06-0693P) | The Honorable Edward M. Emmett, Harris County Judge, 1001 Preston Street, Suite 911, Houston, TX 77002 | Harris County Permit Office, 10555 Northwest Freeway, Suite 120, Houston, TX 77092 | http://www.msc.fema.gov/lomc. | May 18, 2016 | 480287
Harris | Unincorporated areas of Harris County, (16-06-0003P) | The Honorable Edward M. Emmett, Harris County Judge, 1001 Preston Street, Suite 911, Houston, TX 77002 | Harris County Permit Office, 10555 Northwest Freeway, Suite 120, Houston, TX 77092 | http://www.msc.fema.gov/lomc. | May 19, 2016 | 480287
Hays | City of San Marcos, (15-06-2311P) | The Honorable Daniel Guerrero, Mayor, City of San Marcos, 630 East Hopkins Street, San Marcos, TX 78666 | Engineering Department, 630 East Hopkins Street, San Marcos, TX 78666 | http://www.msc.fema.gov/lomc. | May 18, 2016 | 485505
Hays | Unincorporated areas of Hays County, (15-06-2311P) | The Honorable Bert Cobb, M. D., Hays County Judge, 111 East San Antonio Street, Suite 300, San Marcos, TX 78666 | Hays County Environmental Health Department, 1251 Civic Center Loop, San Marcos, TX 78666 | http://www.msc.fema.gov/lomc. | May 18, 2016 | 480321
Kaufman | City of Terrell, (15-06-2731P) | The Honorable Hal Richards, Mayor, City of Terrell, 201 East Nash Street, Terrell, TX 75160 | City Hall, 201 East Nash Street, Terrell, TX 75160 | http://www.msc.fema.gov/lomc. | May 16, 2016 | 480416
Tarrant | City of Fort Worth, (15-06-0830P) | The Honorable Betsy Price, Mayor, City of Fort Worth, 1000 Throckmorton Street, Fort Worth, TX 76102 | City Hall, 1000 Throckmorton Street, Fort Worth, TX 76102 | http://www.msc.fema.gov/lomc. | May 31, 2016 | 480596
Virginia:
Mecklenburg | Unincorporated areas of Mecklenburg County, (15-03-1485P) | The Honorable Glenn E. Barbour, Chairman, Mecklenburg County Board of Supervisors, P.O. Box 729, South Hill, VA 23970 | Mecklenburg County Zoning Department, P.O. Box 307, Boydton, VA 23917 | http://www.msc.fema.gov/lomc. | May 26, 2016 | 510189
Wyoming:
Teton | Unincorporated areas of Teton County, (16-08-0063P) | The Honorable Barbara Allen, Chair, Teton County Board of Commissioners, P.O. Box 3594, Jackson, WY 83001 | Teton County Engineering Department, 320 South King Street, Jackson, WY 83001 | http://www.msc.fema.gov/lomc. | May 26, 2016 | 560094

[FR Doc. 2016-07791 Filed 4-4-16; 8:45 am]

BILLING CODE 9110-12-P